DEPARTMENT OF COMMERCE

International Trade Administration

[A-580-921]

Certain Monomers and Oligomers From the Republic of Korea: Amended Preliminary Affirmative Determination of Sales at Less Than Fair Value

AGENCY: Enforcement and Compliance, International Trade Administration, Department of Commerce.

SUMMARY: The U.S. Department of Commerce (Commerce) is amending its preliminarily affirmative determination in the less-than-fair-value (LTFV) investigation of certain monomers and oligomers (monomers and oligomers) from the Republic of Korea (Korea) to correct for significant ministerial errors. The period of investigation (POI) is January 1, 2024, through December 31, 2024.

DATES: Applicable February 6, 2026.

FOR FURTHER INFORMATION CONTACT: Peter Shaw, AD/CVD Operations, Office V, Enforcement and Compliance, International Trade Administration, U.S. Department of Commerce, 1401 Constitution Avenue NW, Washington, DC 20230; telephone: (202) 482-0697.

SUPPLEMENTARY INFORMATION:

Background

On January 5, 2026, Commerce published in the Federal Register its preliminary affirmative determination in the LTFV investigation of monomers and oligomers from Korea.¹ On January 5, 2026, the petitioner ² timely alleged that Commerce made significant ministerial errors in the Preliminary Determination.³

¹ See Certain Monomers and Oligomers from the Republic of Korea: Preliminary Affirmative Determination of Sales at Less Than Fair Value, Preliminary Affirmative Determination of Critical Circumstances, in Part, and Postponement of Final Determination, and Extension of Provisional Measures, 91 FR 244 (January 5, 2026) (Preliminary Determination), and accompanying Preliminary Decision Memorandum.

² The petitioner is Arkema Inc.

³ See Petitioner's Letter, “Allegation of Ministerial Error,” dated January 5, 2026.

Scope of the Investigation

The products covered by this investigation are monomers and oligomers from Korea. For a complete description of the scope of this investigation, see the appendix to this notice.

Framework

A ministerial error is defined as including “errors in addition, subtraction, or other arithmetic function, clerical error resulting from inaccurate copying, duplication, or the like, and any other similar type of unintentional error which {Commerce} considers ministerial.” ⁴ A ministerial error is considered to be “significant” if its correction, either singly or in combination with other errors, would result in: (1) a change of at least five absolute percentage points in, but not less than 25 percent of, the weighted-average dumping margin calculated in the preliminary determination; or (2) a difference between a weighted-average dumping margin of zero (or de minimis) and a weighted-average dumping margin of greater than de minimis or vice versa.⁵ Pursuant to 19 CFR 351.224(e), Commerce “will analyze any comments received and, if appropriate, correct any significant ministerial error by amending the preliminary determination.”

⁴ See section 735(e) of the Tariff Act of 1930, as amended (the Act); see also 19 CFR 351.224(f).

⁵ See 19 CFR 351.224(g).

Analysis of Significant Ministerial Errors

In the Preliminary Determination, we find that Commerce made significant ministerial errors within the meaning of section 735(e) of the Act and 19 CFR 351.224(f) and (g)(1) in calculating the estimated weighted-average dumping margins for one of the two mandatory respondents in this investigation, Miwon Specialty Chemicals Co., Ltd. (Miwon). Accordingly, pursuant to 19 CFR 351.224(e), Commerce is amending its Preliminary Determination to correct for these significant ministerial errors by revising the weighted-average dumping margins for Miwon. Because Miwon's weighted-average dumping margin was used to compute the “all others” rate, Commerce is also amending its Preliminary Determination for all-other producers and/or exporters. For a detailed discussion of the alleged ministerial errors, as well as Commerce's analysis, see the Ministerial Error Memorandum.⁶

⁶ See Memorandum, “Analysis of Ministerial Error Allegations for the Preliminary Determination,” dated concurrently with this notice (Ministerial Error Memorandum).

Amended Preliminary Determination

As a result of correcting the significant ministerial errors, Commerce determines that the following amended preliminary estimated weighted-average dumping margins exist:

⁷ The rates for Green Chemical Co., Ltd.; Green Life Science and Kukdo Chemicals Co. Ltd. remain unchanged from the Preliminary Determination.

Exporter/producer ⁷ | Weighted-average dumping margin (percent)
Miwon Specialty Chemical Co., Ltd | 25.07
All Others | 28.52

Disclosure

We intend to disclose the calculations performed for this amended preliminary determination to parties within five days after public announcement or, if there is no public announcement, within five days of the date of publication of this notice, in accordance with 19 CFR 351.224(b).

Amended Cash Deposits and Suspension of Liquidation

The collection of cash deposits and suspension of liquidation will be revised according to the rates calculated in this amended preliminary determination, in accordance with section 733(d) of the Act. Because this amended preliminary determination results in an increased cash deposit rate, this rate will be effective on the date of publication of this notice in the Federal Register. These suspension of liquidation instructions will remain in effect until further notice.

U.S. International Trade Commission Notification

In accordance with section 733(f) of the Act, Commerce will notify the U.S. International Trade Commission (ITC) of our amended preliminary determination.

Notification to Interested Parties

This amended preliminary determination is issued and published in accordance with sections 733(d) and 777(i)(1) of the Act, and 19 CFR 351.224(e).

Dated: January 30, 2026.
Christopher Abbott,
Deputy Assistant Secretary for Policy and Negotiations, performing the non-exclusive functions and duties of the Assistant Secretary for Enforcement and Compliance.

Appendix

Scope of the Investigation

The products subject to this investigation are certain multifunctional acrylate and methacrylate monomers, and acrylated bisphenol-A epoxy based oligomers (collectively, certain monomers and oligomers or CMOs) that are derived from chemical reactions involving the use of acrylic or methacrylic acid. Products within the scope are listed below and have the following Chemical Abstracts Service (CAS) numbers:

CAS No. | Description | Molecular formula
109-16-0 | Triethylene glycol dimethacrylate (TEGDMA) | C14H22O6.
13048-33-4 | 1,6-hexanediol diacrylate (HDDA) | C12H18O4.
42978-66-5 | Tripropylene glycol diacrylate (TPGDA) | C15H24O6.
3290-92-4 | Trimethylolpropane trimethacrylate (TMPTMA) | C18H26O6.
15625-89-5 | Trimethylolpropane triacrylate (TMPTA) | C15H20O6.
28961-43-5 | Ethoxylated trimethylol-propane triacrylate (EOTMPTA) | (C2H4O)n(C2H4O)n(C2H4O)nC15H20O6.
57472-68-1 | Dipropylene glycol diacrylate (DPGDA) | C12H18O5.
55818-57-0 | Bisphenol-A-epichlorohydrin copolymer acrylate (EPOXY ACRYLATE) | (C15H16O2.C3H5ClO)x.xC3H4O2.

The monomers are generally known as multifunctional acrylates (MFAs) or multifunctional methacrylates (MFMAs) depending on whether the functional groups are acrylate or methacrylate. The monomers generally contain stabilizers/inhibitors, which include but are not limited to Hydroquinone, Methyl Hydroquinone, and Butylated Hydroxy Toluene. The monomers are either difunctional or trifunctional (having 2 or 3 functional groups/molecule), have viscosities of 9 to 15 centipoise (cPs) at 25 degrees Celsius (if difunctional) or 44 to 110 cPs at 25 degrees Celsius (if trifunctional), have (meth)acrylate equivalent weights (molecular weight per number of functional groups) between 99 and 158 and molecular weights between 226 and 472 grams per mol.

The acrylated bisphenol-A epoxy based oligomer is commonly referred to as epoxy acrylate or acrylated epoxy. In contrast to epoxy resin, the main characteristic of the epoxy acrylate oligomer is that it contains acrylate functional groups which make them curable by free-radical polymerization. The epoxy acrylate has a molecular weight between 508 to 536 grams per mol and a viscosity of 2400 to 3600 cPs at 65 degrees Celsius. The epoxy acrylate generally contains stabilizers/inhibitors, which include but are not limited to Hydroquinone, Methyl Hydroquinone, and Butylated Hydroxy Toluene.

Certain monomers and oligomers are subject to the scope even if an in-scope monomer or oligomer is blended or mixed with one or more other in-scope monomers or oligomers. Certain monomers and oligomers in any blend or mixture are also subject to the scope, so long as the blend or mixture contains no less than 20 percent by weight of in-scope CMOs. The scope includes merchandise matching the above description that has been processed in a third country, including by commingling, diluting, introducing, or removing ingredients, or performing any other processing that would not otherwise remove the merchandise from the scope of the investigations if performed in the subject country.

The scope also includes CMOs that are commingled, mixed or blended with in-scope product from sources not subject to this investigation.

Only the subject component(s) of such blends, mixtures or commingled products described above is covered by the scope of this investigation. Subject merchandise contained in a blended, mixed or commingled product described above will not have undergone a chemical reaction as a result of being blended, mixed or commingled.

Notwithstanding the above, specifically excluded from the scope are downstream products, including but not limited to, inks, coatings and overprint varnishes. For purposes of this exclusion, the downstream product requires only the application of energy to be cured, e.g., inks or varnish applied to packaging, coatings applied to wood flooring, etc. The energy source required to cure the downstream product to its substrate can be thermal, ultraviolet radiation, visible light, electron beam radiation, or infrared radiation.

This merchandise is currently classifiable under Harmonized Tariff Schedule of the United States (HTSUS) subheadings 2916.12.5050, 2916.14.2050, 3824.99.2900, 3907.29.0000 and 3907.30.0000. Subject merchandise may also be entered under subheadings 2916.12.1000 and 3824.99.9397. The HTSUS subheadings and CAS registry numbers are provided for convenience and customs purposes only; the written description of the scope is dispositive.

[FR Doc. 2026-02429 Filed 2-5-26; 8:45 am]

BILLING CODE 3510-DS-P